DEPARTMENT OF COMMERCE

International Trade Administration

[A-583-854]

Certain Steel Nails From Taiwan: Final Results of Antidumping Duty Administrative Review and Final Determination of No Shipments; 2018-2019

AGENCY: Enforcement and Compliance, International Trade Administration, U.S. Department of Commerce.

SUMMARY: The Department of Commerce (Commerce) determines that certain steel nails from Taiwan were sold in the United States at less than normal value during the period of review (POR), July 1, 2018 through June 30, 2019.

DATES: Applicable November 27, 2020.

FOR FURTHER INFORMATION CONTACT: Irene Gorelik, AD/CVD Operations, Office VIII, Enforcement and Compliance, International Trade Administration, Department of Commerce, 1401 Constitution Avenue NW, Washington, DC 20230; telephone: (202) 482-6905.

SUPPLEMENTARY INFORMATION:

Background

Commerce published the Preliminary Results on April 6, 2020.¹ On April 24, 2020, Commerce tolled all deadlines in administrative reviews by 50 days.² On July 21, 2020, Commerce tolled all deadlines in administrative reviews by an additional 60 days.³ The deadline for the final results of this review is now November 23, 2020.

¹ See Certain Steel Nails from Taiwan: Preliminary Results of Antidumping Duty Administrative Review and Preliminary Determination of No Shipments; 2018-2019, 85 FR 19138 (April 6, 2020) (Preliminary Results), and accompanying Preliminary Decision Memorandum.

² See Memorandum, “Tolling of Deadlines for Antidumping and Countervailing Duty Administrative Reviews in Response to Operational Adjustments Due to COVID-19,” dated April 24, 2020.

³ See Memorandum, “Tolling of Deadlines for Antidumping and Countervailing Duty Administrative Reviews,” dated July 21, 2020.

Scope of the Order ⁴

⁴ See Certain Steel Nails from the Republic of Korea, Malaysia, the Sultanate of Oman, Taiwan, and the Socialist Republic of Vietnam: Antidumping Duty Orders, 80 FR 39994 (July 13, 2015) (Order).

The merchandise covered by this order is certain steel nails. The certain steel nails subject to the order are currently classifiable under HTSUS subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to this order also may be classified under HTSUS subheadings 7907.00.60.00, 8206.00.00.00 or other HTSUS subheadings. While the HTSUS subheadings are provided for convenience and customs purposes, the written description of the scope of this order is dispositive. For a complete description of the scope of the Order, see the Issues and Decision Memorandum.⁵

⁵ See Memorandum, “Issues and Decision Memorandum for the Final Results of the Antidumping Duty Administrative Review: Certain Steel Nails from Taiwan; 2018-2019” dated concurrently with, and hereby adopted by, this notice.

Analysis of Comments Received

In the Issues and Decision Memorandum, we addressed all issues raised in parties' case and rebuttal briefs. In the Appendix to this notice, we provide a list of the issues raised by parties. The Issues and Decision Memorandum is a public document and is on-file electronically via Enforcement and Compliance's Antidumping and Countervailing Duty Centralized Electronic Service System (ACCESS). ACCESS is available to registered users at https://access.trade.gov. In addition, a complete version of the Issues and Decision Memorandum can be accessed directly at http://enforcement.trade.gov/frn/index.html. The signed and the electronic versions of the Issues and Decision Memorandum are identical in content.

Changes Since the Preliminary Results

Based on our review of the record and comments received from interested parties, we made no changes to our Preliminary Results, with the exception of the cash deposit and assessment instructions regarding suspended subject merchandise entries exported by Quick Advance, Inc., and produced by Ko's Nail, Inc., as discussed in the Issues and Decision Memorandum.

Final Determination of No Shipments

In the Preliminary Results, Commerce determined that Astrotech Steels Private Limited, Jinhai Hardware Co., Ltd., Region International Co., Ltd., Region Industries, and Region System Sdn Bhd. had no shipments during the POR.⁶ As we have not received any information to contradict this determination, consistent with our practice, we will instruct U.S. Customs and Border Protection (CBP) to liquidate any existing entries of subject merchandise produced by these five companies, but exported by other parties, at the rate for the intermediate reseller, if available, or at the all-others rate.

⁶ See Preliminary Results, 85 FR at 19139.

Final Determination of No Reviewable Sales

In the Preliminary Results, Commerce determined that Create Trading Co., Ltd. (Create Trading) had no reviewable sales during the POR.⁷ As we have not received any information to contradict this determination, we continue to find that Create Trading had no reviewable sales of subject merchandise during the POR. As discussed further in the “Assessment Rates” section below, we will instruct CBP to liquidate any existing entries of merchandise produced by Create Trading's unaffiliated producers and exported by Create Trading at the rate applicable to the unaffiliated producers, i.e., the all-others rate.⁸

⁷ Id.

⁸ See Antidumping and Countervailing Duty Proceedings: Assessment of Antidumping Duties, 68 FR 23954, 23954 (May 6, 2003) (Assessment of Antidumping Duties); see also Certain Pasta from Turkey: Notice of Preliminary Results of Antidumping Duty Administrative Review, 76 FR 23974, 23977 (April 29, 2011), unchanged in Pasta from Turkey: Notice of Final Results of the 14th Antidumping Duty Administrative Review, 76 FR 68399 (November 4, 2011).

Rate for Non-Selected Companies

As we stated in the Preliminary Results, in accordance with the U.S. Court of Appeals for the Federal Circuit's decision in Albemarle,⁹ we are applying a rate based on the simple average of the individual rates applied to Bonuts Hardware Logistics Co., LLC (Bonuts) and Pro-Team Coil Nail Enterprise, Inc. (PT) in this administrative review (i.e., 78.17 percent) to the companies not selected for individual examination. Commerce has addressed arguments from various interested parties regarding our preliminary determination and, for the final results, the determination remains unchanged, as discussed in the Issues and Decision Memorandum.

⁹ See Preliminary Results, 85 FR at 19139 (citing Albemarle Corp. v. United States, 821 F. 3d 1345 (Fed. Cir. 2016) (Albemarle)).

Final Results of the Administrative Review

We have determined the following dumping margins for the firms listed below for the period July 1, 2018 through June 30, 2019:

¹⁰ As stated in the Issues and Decision Memorandum and in this notice, this rate does not apply to entries of subject merchandise exported by Quick Advance Inc. and produced by Ko's Nail Inc. This exporter-producer channel of sales is excluded from the Order. See Order, 80 FR at 39996.

Exporter/producer | Dumping margin (percent)
Bonuts Hardware Logistics Co., LLC | 78.17
PT Enterprise, Inc./Pro-Team Coil Nail Enterprise, Inc | 78.17
Review-Specific Average Rate Applicable to Companies Under Review Not Selected for Individual Examination (percent)
See Appendix II for the 75 companies under review subject to the review-specific average rate ¹⁰ | 78.17

Assessment Rates

Pursuant to section 751(a)(2)(A) of the Tariff Act of 1930, as amended (the Act), and 19 CFR 351.212(b)(1), Commerce will determine, and CBP shall assess, antidumping duties on all appropriate entries of subject merchandise in accordance with the final results of this review. For these final results, we will instruct CBP to apply an ad valorem assessment rate of 78.17 percent to all entries of subject merchandise during the POR which were produced and/or exported by mandatory respondents, Bonuts and PT, and the companies which were not selected for individual examination.

As indicated above, for each company which we determined had “no shipments” of the subject merchandise during the POR, we will instruct CBP to liquidate all POR entries associated with these companies at the all-others rate if there is no rate for the intermediate company(ies) involved in the transaction, consistent with Commerce's reseller policy.¹¹

¹¹ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010). For a full discussion of this practice, see Antidumping and Countervailing Duty Proceedings: Assessment of Antidumping Duties, 68 FR 23954 (May 6, 2003).

We determined that Create Trading was not the first party in the transaction chain to have knowledge that the merchandise was destined for the United States, and thus Create Trading is not considered the exporter of subject merchandise during the POR for purposes of this review. In our May 6, 2003, “automatic assessment” clarification, we explained that, where respondents in an administrative review demonstrate that they had no knowledge of sales through resellers to the United States, we would instruct CBP to liquidate such entries at the all-others rate applicable to the proceeding. Here, Commerce finds that Create Trading had no shipments of subject merchandise to the United States during the POR for which it was the first party with knowledge of U.S. destination. Because “as entered” liquidation instructions do not alleviate the concerns which the May 2003 clarification was intended to address, we find it appropriate in this case to instruct CBP to liquidate any existing entries of merchandise produced by Create Trading's unaffiliated producers and exported by Create Trading.

Finally, based on the Final Determination of the underlying investigation and Order,¹² no suspension of liquidation is required for entries of subject merchandise exported by Quick Advance, Inc. and produced by Ko's Nail, Inc. because the estimated weighted-average final dumping margin calculated for this transaction channel was zero. Commerce calculated its dumping margin during the investigation based on sales of Quick Advance, Inc. that were produced by Ko's Nail, Inc. Therefore, Quick Advance Inc.'s exclusion from antidumping duty liability and any cash deposit requirement pertains only to the channel(s) of sales that were examined by Commerce in the investigation. Therefore, for any subject merchandise exported by Quick Advance, Inc. that was produced by Ko's Nail, Inc. during the POR, we will instruct CBP to liquidate those POR entries, pertaining to the above-noted channel of sales, without regard to antidumping duties. However, for any entries of subject merchandise exported by Quick Advance Inc., and produced by companies other than Ko's Nail Inc., or produced by Ko's Nail Inc., and exported by companies other than Quick Advance Inc., the assessment rate will be 78.17 percent.

¹² See Certain Steel Nails From Taiwan: Final Determination of Sales at Less Than Fair Value, 80 FR 28959, 28961 (May 20, 2015) (Final Determination); see also Order, 80 FR at 39996.

We intend to issue liquidation instructions to CBP 15 days after the date of publication of this notice.

Cash Deposit Requirements

The following cash deposit requirements will be effective upon publication of the notice of final results of administrative review for all shipments of subject merchandise entered, or withdrawn from warehouse, for consumption on or after the date of publication, as provided by section 751(a)(2) of the Act: (1) The cash deposit rate for the respondents noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the original investigation, but the producer is, then the cash deposit rate will be the rate established for the most recently completed segment of this proceeding for the producer of the subject merchandise; and (4) the cash deposit rate for all other manufacturers or exporters will continue to be 2.16 percent, the all-others rate in the less-than-fair-value investigation.¹³

¹³ The all-others rate from the underlying investigation was revised in Certain Steel Nails from Taiwan: Notice of Court Decision Not in Harmony with Final Determination in Less than Fair Value Investigation and Notice of Amended Final Determination, 82 FR 55090, 55091 (November 20, 2017).

As noted above, no cash deposits are required for entries exported by Quick Advance, Inc. and produced by Ko's Nail, Inc. However, for any entries of subject merchandise exported by Quick Advance, Inc. and produced by companies other than Ko'sNail, Inc. or produced by Ko's Nail, Inc. and exported by companies other than Quick Advance, Inc., the cash deposit requirements in the above paragraph will apply. These cash deposit requirements, when imposed, shall remain in effect until further notice.

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a final reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act, and 19 CFR 351.221(b)(5).

Dated: November 20, 2020.
Jeffrey I. Kessler,
Assistant Secretary for Enforcement and Compliance.

Appendix I—List of Topics Discussed in the Issues and Decision Memorandum

I. Summary

II. Background

III. Scope of the Order

IV. Discussion of the Issues

Comment 1: Commerce's Calculation of the Review-Specific Rate for Non-Examined Companies

Comment 2: Quick Advance Inc. and Ko's Nail Inc. Exclusion From the Order

V. Recommendation

Appendix II—List of Companies Under Review Not Selected for Individual Examination

1. All Precision Co., Ltd.

2. Aplus Pneumatic Corp.

3. Basso Industry Corporation

4. Challenge Industrial Co., Ltd.

5. Cheng Ch International Co. Ltd.

6. Chia Pao Metal Co. Ltd.

7. China Staple Enterprise Corporation

8. Chite Enterprises Co., Ltd.

9. Crown Run Industrial Corp.

10. Da Yong Enterprise Co., Ltd.

11. Daejin Steel Company Ltd.

12. De Fasteners Inc.

13. Dragon Iron Factory Co., Ltd.

14. Easylink Industrial Co., Ltd.

15. ECI Taiwan Co., Ltd.

16. Encore Green Co., Ltd.

17. Faithful Engineering Products Co. Ltd.

18. Fastenal Asia Pacific Ltd.

19. Four Winds Corporation

20. Gaun Ting Technology Co., Ltd.

21. General Merchandise Consolidators

22. Ginfa World Co. Ltd.

23. Gloex Inc.

24. Home Value Co., Ltd.

25. Hor Liang Industrial Corp.

26. Hoyi Plus Co., Ltd.

27. Integral Building Products Inc.

28. Interactive Corp.

29. J C Grand Corporation

30. Jade Shuttle Enterprise Co., Ltd.

31. Jau Yeou Industry Co., Ltd.

32. Jen Ju Enterprise Co., Ltd.

33. Jet Crown International Co., Ltd.

34. Jiajue Industrial Co. Ltd.

35. Jinsco International Corp.

36. Ko's Nail Inc.¹⁴

¹⁴ Where Quick Advance Inc. is the exporter and Ko's Nail Inc. is the producer, suspension of liquidation is not required.

37. Korea Wire Co., Ltd.

38. Liang Chyuan Industrial Co., Ltd.

39. Linkwell Industry Co., Ltd.

40. Locksure Inc.

41. Long Ngyuen Trading & Service Co.

42. Lu Kang Hand Tools Industrial Co., Ltd. (Prommer)

43. Master United Corp.

44. Maytrans International Corp.

45. Ming Cheng Hardware Co., Ltd.

46. Nailermate Enterprise Corporation

47. Nailtech Co., Ltd.

48. Newrex Screw Corporation

49. NS International Ltd.

50. Panther T&H Industry Co.

51. Patek Tool Co., Ltd.

52. Point Edge Corp.

53. President Industrial Inc.

54. Quick Advance Inc.¹⁵

¹⁵ Where Quick Advance Inc. is the exporter and Ko's Nail Inc. is the producer, suspension of liquidation is not required.

55. Romp Coil Nail Industries Inc.

56. Shinn Chuen Corp.

57. Six-2 Fastener Imports Inc.

58. Taiwan Shan Yin Int'l Co. Ltd.

59. Taiwan Wakisangyo Co. Ltd.

60. Techart Mechanical Corporation

61. Test-Rite Int'l Co., Ltd.

62. Theps Co., Ltd.

63. Trans-Top Enterprise Co., Ltd.

64. Trim International Inc.

65. U-Can-Do Hardware Corp.

66. UJL Industries Co., Ltd.

67. Unicatch Industrial Co. Ltd.

68. VIM International Enterprise Co., Ltd.

69. Wattson Fastener Group Inc.

70. Wictory Co. Ltd.

71. Yeh Fong Hsin

72. Yehdyi Enterprise Co., Ltd.

73. Yu Chi Hardware Co., Ltd.

74. Zhishan Xing Enterprise Co., Ltd.

75. Zon Mon Co. Ltd.

[FR Doc. 2020-26231 Filed 11-25-20; 8:45 am]

BILLING CODE 3510-DS-P